DEPARTMENT OF DEFENSE

Department of the Navy

[Docket ID: USN-2023-HQ-0024]

Proposed Collection; Comment Request

AGENCY: Department of the Navy, Department of Defense (DoD).

ACTION: 60-Day information collection notice.

SUMMARY: In compliance with the Paperwork Reduction Act of 1995, the Department of the Navy (DoN) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 5, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Department of the Navy Information Management Control Officer, 2000 Navy Pentagon, Rm. 4E563, Washington, DC 20350, ATTN: Ms. Sonya Martin, or call 703-614-7585.

SUPPLEMENTARY INFORMATION:

Title; Associated Form; and OMB Number: BUMED PHOP Electronic Behavioral Health Intake Assessment; OMB Control Number: 0703-EBHS.

Needs and Uses: In 2008, the DoN Bureau of Medicine and Surgery (BUMED) created the Psychological Health Outreach Program (PHOP) to address potential gaps in behavioral health-related support for all Service Members (and their Family Members) serving in the DoN Reserve and United States Marine Forces Reserve. The PHOP mission includes the provision of preemptive outreach, psychoeducation, assessment, and case management services intended to connect Service Members/Family Members and Reserve Units as a whole to targeted community resources that help reduce stress, promote resiliency, and support mission readiness. The PHOP is staffed by a nationwide Team of fully licensed clinical behavioral health professionals. To support Service Members and Reserve Units, PHOP continuously engages in a cycle of outreach and referral, wherein PHOP Team Members proactively contact, and are contacted by, Service Members and Command Points of Contact to collaborate on and develop action plans intended to address identified psychosocial issues and/or stressors.

To develop customized action plans in support of Service Members and Reserve Units, PHOP must conduct an assessment of the psychosocial stressors affecting the Service Member or Reserve Unit seeking support. To fully support those experiencing psychological health issues, assessment necessarily includes an evaluation of specific types of issues that may adversely affect one's overall health and wellness. These include an assessment of depressive signs and symptoms, anxiety, trauma-related experiences, alcohol use, sleep quality, and individually identified/reported stressors. Additionally, to ensure PHOP services are delivered to Service Members and Reserve Units with timeliness and accuracy, individual/group contact information must be collected. Moreover, in an effort to provide regionally, culturally, and biologically sensitive support, individual demographics are collected.

Affected Public: Individuals or households.

Annual Burden Hours: 970.

Number of Respondents: 5,821.

Responses per Respondent: 1.

Annual Responses: 5,821.

Average Burden per Response: 10 minutes.

Frequency: On occasion.

Dated: November 30, 2023.
Aaron T. Siegel,
Alternate OSD Federal Register Liaison Officer, Department of Defense.

[FR Doc. 2023-26760 Filed 12-5-23; 8:45 am]

BILLING CODE 6001-FR-P